U.S. AGENCY FOR INTERNATIONAL DEVELOPMENT

Senior Executive Service; Membership of Performance Review Board

ACTION: Notice.

SUMMARY: This notice lists approved candidates who will comprise a standing roster for service on the Agency's 2014 and 2015 SES Performance Review Boards. The Agency will use this roster to select SES board members, and an outside member for the convening SES Performance Review Board each year. The standing roster is as follows:

Allen, Colleen

Broderick, Deborah

Cappozola, Christa

Chan, Carol

Crumbly, Angelique

Detherage, Maria Price

Feinstein, Barbara

Foley, Jason

Jenkins, Robert

Kolmstetter, Elizabeth

Kramer, Douglas

Kuyumjian, Kent

Leavitt, William

Martin-Wallace, Valencia, Outside SES Member

McNerney, Angela

Mitchell, Reginald

Miranda, Roberto

Pascocello, Susan

Peters, James

Romanowski, Alina

Sampler, Donald

Schmipp, Michele

Vera, Mauricio

Walther, Mark

Warren, Wade

Webb, Mark

White, Christa

FOR FURTHER INFORMATION CONTACT: Marvol Edmonds, 202-712-1781.

Dated: September 29, 2014.
Vanessa D. Prout,
Division Chief, Employee Labor Relations Division.

[FR Doc. 2014-23593 Filed 10-2-14; 8:45 am]

BILLING CODE 6116-02-P